ANTITRUST MODERNIZATION COMMISSION

Public Meeting

AGENCY: Antitrust Modernization Commission.

ACTION: Notice of public meeting.

SUMMARY: The Antitrust Modernization Commission will hold a public meeting on May 9, 2005. The purpose of the meeting is for the Antitrust Modernization Commission to approve plans (including proposed requests for public comment and public hearings) for studying issues selected by the Commission in its January 13 and March 24, 2005, meetings.

DATES: May 9, 2005, 1 p.m. to 3:30 p.m. Interested members of the public may attend. Registration is not required.

ADDRESSES: Federal Trade Commission, Conference Center Rooms A & B, 601 New Jersey Avenue, NW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of this meeting is for the Antitrust Modernization Commission to approve plans prepared by its study groups for studying issues selected by the Commission in its January 13 and March 24, 2005, meetings, including proposed requests for public comment and public hearings. Materials relating to the meeting will be made available on the Commission's Web site (http://www.amc.gov) in advance of the meeting.

The AMC has called this meeting pursuant to its authorizing statute and the Federal Advisory Committee Act. Antitrust Modernization Commission Act of 2002, Public Law No. 107-273, section 11058(f), 116 Stat. 1758, 1857; Federal Advisory Committee Act, 5 U.S.C. App., section 10(a)(2); 41 CFR § 102-3.150 (2004).

Dated: April 18, 2005.
By direction of Deborah A. Garza, Chair of the Antitrust Modernization Commission.
Approved by Designated Federal Officer.
Andrew J. Heimert,
Executive Director & General Counsel, Antitrust Modernization Commission.

[FR Doc. 05-8026 Filed 4-20-05; 8:45 am]

BILLING CODE 6820-YM-P